SOCIAL SECURITY ADMINISTRATION

Agency Information Collection Activities: Proposed Request and Comment Request

The Social Security Administration (SSA) publishes a list of information collection packages that will require clearance by the Office of Management and Budget (OMB) in compliance with Public Law 104-13 effective October 1, 1995, The Paperwork Reduction Act of 1995. The information collection packages that may be included in this notice are for new information collections, revisions to OMB-approved information collections and extensions (no change) of OMB-approved information collections.

SSA is soliciting comments on the accuracy of the agency's burden estimate; the need for the information; its practical utility; ways to enhance its quality, utility and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA, New Executive Office Building, Room 10235, 725 17th St., NW., Washington, DC 20503, Fax: 202-395-6974.

(SSA), Social Security Administration, DCFAM, Attn: Reports Clearance Officer, 1338 Annex, 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454, or by writing to the address listed above.

1. Integrated Registration for Employers and Submitters (IRES)—0960-0626. The IRES authentication system is a free service designed to allow employers to access SSA's electronic wage reporting services, and to replace the use of a handwritten signature with an electronic signature. Employer representatives use an IRES generated PIN and password as their electronic signature. IRES is designed to be more efficient, reducing the costs to both employers and SSA, and will facilitate the filing of wage data electronically. SSA's paramount interest in the development of IRES was to ensure that the new electronic method of identifying wage report submitters provides the same security features as the current paper-based method. Security features include message integrity, originator authentication, non-repudiation and confidentiality. The PIN and password will be issued to an individual designated by the employer after SSA authenticates the company and contact information provided by the individual. SSA uses the IRES in conjunction with SSA's wage reporting processes. It is used as the gateway for electronic wage reporting and the online employee verification service. IRES will also be used when SSA implements additional electronic services such as electronic notices and error information. Also, the PIN will be used in the Annual Wage Reporting diskette process to replace IRS paper form 6559. SSA has received approval from IRS to use an alternative signature. Respondents to IRES will be Employers and Submitters who utilize SSA's electronic wage reporting and online employee verification services.

Type of Request: Revision of an OMB-approved information collection.

Number of Respondents: 250,120.

Number of Responses: 1.

Average Burden Per Response: 2 minutes.

Estimated Annual Burden: 8,337 hours.

2. Application for Widow's or Widower's Insurance Benefits—20 CFR 404.335-.338—0960-0004. SSA uses the information collected on the Form SSA-10-BK to determine if the applicant meets the statutory and regulatory conditions for entitlement to widow(er)'s benefits. The respondents are applicants for Widow(er)'s benefits.

Type of Request: Extension of an OMB-approved information collection.

Number of Respondents: 288,580.

Frequency of Response: 1.

Average Burden Per Response: 15 minutes.

Estimated Annual Burden: 72,145 hours.

3. Application of Circuit Court Law—0960-0581. SSA regulations at 20 CFR 404.985 and 416.1485 inform claimants of their right to request that a published Acquiescence Ruling (AR) be applied to a prior determination when we make a determination or decision on a claim between the date of the Circuit Court decision and the date we publish the AR. The regulations also specify that claimants can request that the AR be applied to a prior determination or decision by submitting a statement that demonstrates how the AR could change the prior determination or decision. SSA will use the information provided in the statement to readjudicate the claim if the claimant demonstrates the Ruling could change the prior determination. Claimants may use Form SSA-795, Statement of Claimant or Other Person (0960-0045), to request and support application of a published AR to the prior determination or decision. The respondents are claimants whose determinations or decisions on their claims may be affected by an AR.

Type of Request: Extension of current approved collection.

Number of Respondents: 100,000.

Frequency of Response: 1.

Average Burden Per Response: 17 minutes.

Estimated Annual Burden: 28,333 hours.

4. Waiver of Right to Appear—20 CFR 404.913-914, 20 CFR 404 916(b)(5), 20 CFR 416.1413-1414 and 1416(b)(5)—0960-0534. The Social Security Administration uses Form-773-U4 to provide claimants with an effective means of requesting a waiver of their right to appear at a disability hearing. The information collected will be used as documentation that claimants understand their rights to appear and the effects of the decision to waive this right. The respondents are claimants under Title II (Old-Age, Survivors and Disability Insurance) and Title XVI (Supplemental Security Income) of the Social Security Act, who wish to waive their right to a disability hearing

Type of Request: Extension of current approved collection.

Number of Respondents: 200.

Frequency of Response: 1.

Average Burden Per Response: 3 minutes.

Annual Burden: 10 hours.

5. Request for Internet Services—Password—0960-0632. SSA uses a personal identification number (PIN)/password process for verifying the identity of individuals who choose to use the Internet and Automated Telephone Response in order to conduct business with the agency. An individual will be requested to provide certain information about himself or herself that SSA can verify in its records in order to obtain a password for use with its electronic services. The information that SSA collects varies depending on individual circumstances. Some examples of the information collected are: Name, social security number, password request code, benefit payment amount, and other shared secret types of information from SSA records. Once the requestor's identity is verified, SSA issues a PIN to the requestor which will allow them to establish a password for use with SSA Internet/telephone transactions. Until now, the services offered have been primarily to beneficiaries receiving benefits under title II of the Social Security Act, including Retirement, Survivors and Disability benefits. In April 2003, SSA began offering the opportunity for certain beneficiaries receiving benefits under title XVI of the Social Security Act, known as Supplemental Security Income (SSI), to report their wages electronically. SSA will initiate a 6-month Proof of Concept project to test the beneficiary acceptance of this technology for reporting wages. Participation in this Proof of Concept is voluntary. Individuals who must report wages include SSI beneficiaries, and, in some cases, the parent or spouse of the SSI beneficiary. In order to use SSA's electronic services, SSA must authenticate the person using its PIN/password process to protect the information in its records from those not authorized to receive it. This technology is expected to be more secure, less burdensome, faster and provide better customer service than other available options. The respondents are individuals who elect to conduct business with the agency in an electronic medium.

Type of Request: Revision of an OMB-approved information collection.

Number of Respondents: 412,267.

Frequency of Response: 1.

Average Burden Per Response: 10 minutes.

Estimated Annual Burden: 68,711 hours.

6. Student Reporting Form—20 CFR, Subpart B, 404, and 20 CFR, Subparts D & E 422—0960-0088. Form SSA-1383 is used by Social Security student beneficiaries to report events or changes that may affect continuing entitlement to these benefits. We are revising this form in order to solicit information about incarceration in compliance with current law. The respondents are Social Security Student Beneficiaries.

Type of Request: Revision of an OMB-approved information collection.

Number of Respondents: 75,000.

Frequency of Response: 1.

Average Burden Per Response: 6 minutes.

Estimated Annual Burden: 7,500 hours.

II. The information collection listed below has been submitted to OMB for clearance. Your comments on the information collections would be most useful if received by OMB and SSA within 30 days from the date of this publication. You can obtain a copy of the OMB clearance package by calling the SSA Reports Clearance Officer at 410-965-0454, or by writing to the address listed above.

1. Disability Hearing Officer's Decision, Title XVI Disabled Child Continuing Disability Review—20 CFR 404 Subpart J and 20 CFR 416 Subpart I&N-OMB No. 0960-0657. Both Federal and state disability hearing officers (DHOs) use the SSA-1209 in preparing the disability determination. The form provides the framework for addressing the crucial elements of the case in a sequential and logical fashion. The completed form will be the official document of the decision. A copy becomes the personalized portion of the notice to the claimant/representative. The respondents are both Federal and state disability hearing officers.

Type of Request: Extension of currently approved collection.

Number of Respondents: 35,000.

Frequency of Response: 1.

Average Burden Per Response: 1 hour 25 minutes.

Estimated Annual Burden: 49,583.

2. Claimant's Statement About Loan of Food and Shelter, SSA-5062, and Statement About Food or Shelter Provided to Another, SSA-L5063—0960-0529. Forms SSA-5062 and SSA-L5063 are used to obtain statements about food and/or shelter provided to an SSI claimant. SSA uses the information to determine whether food and/or shelter are a bona fide loan or should be counted as income. This determination can affect eligibility for SSI and the amount of SSI that is payable. The respondents are claimants for SSI benefits and individuals who provide (loan) food or shelter to SSI claimants.

Type of Request: Extension of an OMB-approved information collection.

Number of respondents: 65,540.

Frequency of Response: 1.

Average Burden of Response: 10.

Estimated Annual Burden: 10,923.

3. Medical Consultant's Review of Psychiatric Review Form—20 CFR 404.1520(a), 20 CFR 404.1640, 20 CFR 404.1643, 20 CFR 404.1645, 20 CFR 416.920(a)—0960-NEW. The Social Security Administration measures the performance of State Disability Determination Services (DDS) in the area of quality of documentation and determinations on claims. In mental claims, a Psychiatric Review Technique Form (PRTF) is completed by DDS medical/psychological consultant (MC/PC). Form SSA-3023 is used by the regional review component to facilitate the MC/PC's review of the PRTF. The MC/PC completes an SSA-3023 only when adjudicating component's PRTF is in file. The SSA-3023 is required for each completed PRTF in file.

Type of Request: Request for Approval of Existing Information Collection.

Number of Respondents: 68,000.

Frequency of Response: 1.

Average Burden Per Response: 12 minutes.

Estimated Annual Burden: 13,600.

4. Collection of SSI Overpayments from Special Benefits for Certain WWII Veterans; 20 CFR, Subpart E, 416.570 & .572—0960-0653. The information collection requirement in 20 CFR 416.570 allows for an individual to request to withhold a title XVI overpayment from Title II/VIII benefits. The information collection requirement in 20 CFR 416.572 allows for an individual to elect a higher or lower rate of withholding for recovery of an SSI overpayment. The information collected will be used to determine the proper rate of withholding of benefits to recover program overpayments. The respondents are Title II or Title VIII beneficiaries who were overpaid title XVI benefits and who request a higher rate of recovery than specified in 20 CFR 416.571.

Type of Request: Extension of an OMB-approved information collection.

Number of Respondents: 2,500.

Frequency of Response: 1.

Average Burden Per Response: 1 hour.

Estimated Annual Burden: 2,500 hours.

5. Requests for Self-Employment Information, Employee Information, Employer Information—20 CFR, Subpart A, 422.120—0960-0508. SSA uses Forms SSA-L2765, SSA-L3365 and SSA-L4002 to request correct information when an employer, employee or self-employed person reports an individual's earnings without a Social Security Number (SSN) or with an incorrect name or SSN. The respondents are employers, employees or self-employed individuals who are requested to furnish additional identifying information.

Type of Request: Extension of an OMB-approved information collection.

Number of Respondents: 3,000,000.

Frequency of Response: 1.

Average Burden Per Response: 10 minutes.

Estimated Annual Burden: 500,000 hours.

6. State Mental Institution Policy Review—20 CFR, Subpart U, 404.2001-2065, Subpart F, 416.601-416.665—0960-0110. The Social Security Act provides that the Commissioner of Social Security shall establish a system of accountability monitoring for institutions in each state that serve as a representative payee for recipients of Social Security and SSI benefits. As part of this accountability process, SSA collects information on Form SSA-9584 to determine whether the institutions’ policies and practices conform to SSA's regulations on the use of benefits and whether the institution is performing other duties and responsibilities required of a representative payee. The information also provides a basis for conducting an onsite review of the institution and is used in the preparation of the subsequent report of findings. The respondents are state mental institutions that serve as representative payees.

Type of Request: Extension of an OMB-approved information collection.

Number of Respondents: 125.

Frequency of Response: 1.

Average Burden Per Response: 60 minutes.

Estimated Annual Burden: 125 hours.

7. Medical or Psychological Consultant's Review of Childhood Disability Evaluation Form—20 CFR, Subpart J, 416.1040, .1043, .1045—0960-NEW. Form SSA-536 is used by SSA medical or psychological consultants to document their review and assessment of the Childhood Disability Evaluation Form, SSA-538, prepared by State DDS employees. A childhood disability evaluation is required in each SSI childhood disability case. Therefore, the consultants must prepare an assessment form SSA-536 for each childhood disability case that is reviewed. The respondents are 256 SSA medical and psychological consultants.

Type of Request: Approval of an existing information collection.

Number of Responses: 17,000.

Frequency of Response: 1.

Average Burden Per Response: 12 minutes.

Estimated Annual Burden: 3,400 hours.

8. Privacy and Disclosure of Official Records and Information, Availability of Information and Records to the Public—20 CFR 401 and 402—0960-0566. The information collected is needed (a) to identify individuals who request access to their records; (b) designate an individual to receive and review sensitive medical records; (c) correct or amend records; (d) obtain consent from an individual to release his/her records to others; (e) facilitate the release of information under the Freedom of Information Act; and (f) to grant a waiver or reduction of fees for records. The respondents are individuals requesting access to their SSA records, correction of their SSA records and disclosure of SSA records.

Type of Request: Extension of an OMB-approved information collection. The reporting burden is shown below:

(a) Number of Respondents: 10,000.

Frequency of Response: On Occasion.

Average Burden Per Response: 11 minutes.

Estimated Annual Burden: 1,833 hours.

(b) Number of Respondents: 3,000.

Frequency of Response: On Occasion.

Average Burden Per Response: 2 hours.

Estimated Annual Burden: 6,000 hours.

(c) Number of Respondents: 100.

Frequency of Response: On Occasion.

Average Burden Per Response: 10 minutes.

Estimated Annual Burden: 17 hours.

(d) Number of Respondents: 200,000.

Frequency of Response: On Occasion.

Average Burden Per Response: 3 minutes.

Estimated Annual Burden: 10,000 hours.

(e) Number of Respondents: 15,000.

Frequency of Response: On Occasion.

Average Burden Per Response: 5 minutes.

Estimated Annual Burden: 1,250 hours.

(f) Number of Respondents: 400.

Frequency of Response: On Occasion.

Average Burden Per Response: 5 minutes.

Estimated Annual Burden: 33 hours.

9. Social Security Disability Report—20 CFR 404.1512 & 416.912-0960. The Social Security Act requires applicants to furnish medical, work history and other evidence or information to prove they are disabled. The information on the Adult Disability Report, together with other evidence and information, will be used by State Disability Determination Services (DDS) to develop medical evidence, assess the alleged disability, and make a determination on whether or not the applicant is disabled under the Act. DDSs are State agencies that make disability determinations on behalf of SSA. In addition to the traditional paper application, claimants for disability benefits will have the option to complete the Disability Report through the Internet (i3368) or in an interview format with an SSA representative at an SSA field office using the Electronic Disability Collect System (EDCS). Both the i3368 and EDCS formats collect the same information as that contained on the paper SSA-3368, but include enhancements to guide the claimant or interviewer through the application process. For example, the i3368 provides applicants with self-help screens and propagates certain information. Both the i3368 and EDCS applications will, when needed, collect additional information on a claimant's work history. In the paper-based process, however, additional work history information is collected through another form, the SSA-3369, OMB No. 0960-0578. The respondents are applicants for title II and title XVI disability benefits.

Type of Request: Revision of an OMB-approved information collection.

Collection format | Number of respondents | Frequency of responses | Average burden per response (hours) | Estimated annual burden (hours)
SSA-3368 (Paper Form) | 2,040,667 | 1 | 1 | 2,040,667
Electronic Disability Collection System (EDCS) | 10,000 | 1 | 1 | 10,000
I3368 (Internet) (Hour burden varies between 1½ hours and 3 hours based on information required) | 66,000 | 1 | 2.5 | 165,000

Total estimated annual burden: 2,215,667.

Dated: August 8, 2003.
Nicholas E. Tagliareni,
Acting Reports Clearance Officer.

[FR Doc. 03-20730 Filed 8-14-03; 8:45 am]

BILLING CODE 4191-02-U